DEPARTMENT OF COMMERCE

Foreign-Trade Zones Board

[B-34-2012]

Foreign-Trade Zone 45—Portland, OR, Authorization of Production Activity, Shimadzu USA Manufacturing, Inc., (Analytical Instruments—Liquid Chromatographs and Mass Spectrometer Production), Canby, OR

The Port of Portland, grantee of FTZ 45, submitted a notification of proposed production activity within Subzone 45G, at the facility of Shimadzu USA Manufacturing, Inc. (Shimadzu), located in Canby, Oregon. Subzone status was approved for Shimadzu's Canby facility on August 8, 2012 (S-52-2012, 77 FR 48127, 8/13/2012).

The notification was processed in accordance with the regulations of the FTZ Board (15 CFR part 400), including notice in the Federal Register inviting public comment (77 FR 28353, 5/14/2012). The FTZ Board has determined that no further review of the activity is warranted at this time. The production activity described in the notification is authorized, subject to the FTZ Act and the Board's regulations, including Section 400.14.

Dated: August 30, 2012.
Andrew McGilvray,
Executive Secretary.

[FR Doc. 2012-22117 Filed 9-6-12; 8:45 am]

BILLING CODE P